DEPARTMENT OF HEALTH AND HUMAN SERVICES

Centers for Disease Control and Prevention

Safety and Occupational Health Study Section (SOHSS), National Institute for Occupational Safety and Health (NIOSH)

In accordance with section 10(a)(2) of the Federal Advisory Committee Act (Pub. L. 92-463), the Centers for Disease Control and Prevention (CDC) announces the following committee meeting:

Name: Safety and Occupational Health Study Section (SOHSS), National Institute for Occupational Safety and Health (NIOSH).

Times and Dates: 8 p.m.-10 p.m., March 5, 2003. 8 a.m.-5:30 p.m., March 6, 2003. 8 a.m.-5 p.m., March 7, 2003.

Place: Little America Hotel, 500 South Main Street, Salt Lake City, Utah 84411, telephone (801) 363-6787.

Status: Open 8 p.m.-10 p.m., March 5, 2003. Open 8 a.m.-9 a.m., March 6, 2003. Closed 9 a.m.-5:30 p.m., March 6, 2003. Closed 8 a.m.-5 p.m., March 7, 2003.

Purpose: The Safety and Occupational Health Study Section will review, discuss, and evaluate grant application(s) received in response to the Institute's standard grants review and funding cycles pertaining to research issues in occupational safety and health, and allied areas. It is the intent of the NIOSH to support broad-based research endeavors in keeping with the Institute's program goals. This will lead to improved understanding and appreciation for the magnitude of the aggregate health burden associated with occupational injuries and illnesses, as well as to support more focused research projects, which will lead to improvements in the delivery of occupational safety and health services and the prevention of work-related injury and illness. It is anticipated that research funded will promote these program goals.

Matters To Be Discussed: The meeting will convene in open session from 8-10 p.m. on March 5, 2003 and 8-9 a.m. on March 6, 2003, to address matters related to the conduct of Study Section business. The remainder of the meeting will proceed in closed session. The purpose of the closed sessions is for the SOHSS to consider safety and occupational health-related grant applications. These portions of the meeting will be closed to the public in accordance with provisions set forth in section 552b(c)(4) and (6) title 5 U.S.C., and the determination of the Director, Management Analysis and Services Office, Centers for Disease Control and Prevention, pursuant to Pub. L. 92-463.

As provided under 41 CFR 102-3.150(b), the public health urgency of this agency business requires that the meeting be held prior to the first available date for publication of this notice in the Federal Register.

Agenda items are subject to change as priorities dictate.

Contact Person for More Information: Michael Galvin, Ph.D., NIOSH Health Scientist, 1600 Clifton Road, NE., Mailstop E-20, Atlanta, Georgia 30333, telephone (404) 498-2524, fax (404) 498-2569.

The Director, Management Analysis and Services Office, has been delegated the authority to sign Federal Register notices pertaining to announcements of meetings and other committee management activities for both the Centers for Disease Control and Prevention and the Agency for Toxic Substances and Disease Registry.

Dated: February 13, 2003.
Joseph E. Salter,
Acting Director, Management Analysis and Services Office, Centers for Disease Control and Prevention.

[FR Doc. 03-4058 Filed 2-20-03; 8:45 am]

BILLING CODE 4163-19-P